DEPARTMENT OF LABOR

Employment and Training Administration

[TA-W-52,002]

Allister Fabricating, Inc., Lannon, WI; Notice of Termination of Investigation

Pursuant to section 221 of the Trade Act of 1974, an investigation was initiated on June 11, 2003, in response to a worker petition which was filed by a company official on behalf of workers at Allister Fabricating, Inc., Lannon, Wisconsin.

The petitioner has requested that the petition be withdrawn. Consequently, the investigation has been terminated.

Signed in Washington, DC, this 30th day of June, 2003.
Richard Church,
Certifying Officer, Division of Trade Adjustment Assistance.

[FR Doc. 03-18554 Filed 7-21-03; 8:45 am]

BILLING CODE 4510-30-P